DEPARTMENT OF EDUCATION

[Docket No.: ED-2022-SCC-0100]

Agency Information Collection Activities; Submission to the Office of Management and Budget for Review and Approval; Comment Request; National Teacher and Principal Survey of 2023-2024 (NTPS 2023-24) Preliminary Field Activities

AGENCY: Institute of Educational Sciences (IES), Department of Education (ED).

ACTION: Notice.

SUMMARY: In accordance with the Paperwork Reduction Act of 1995, ED is proposing revision of a currently approved collection.

DATES: Interested persons are invited to submit comments on or before November 21, 2022.

ADDRESSES: Written comments and recommendations for proposed information collection requests should be sent within 30 days of publication of this notice to www.reginfo.gov/public/do/PRAMain. Find this information collection request (ICR) by selecting “Department of Education” under “Currently Under Review,” then check the “Only Show ICR for Public Comment” checkbox. Reginfo.gov provides two links to view documents related to this information collection request. Information collection forms and instructions may be found by clicking on the “View Information Collection (IC) List” link. Supporting statements and other supporting documentation may be found by clicking on the “View Supporting Statement and Other Documents” link.

FOR FURTHER INFORMATION CONTACT: For specific questions related to collection activities, please contact Carrie Clarady, 202-245-6347.

SUPPLEMENTARY INFORMATION: The Department, in accordance with the Paperwork Reduction Act of 1995 (PRA) (44 U.S.C. 3506(c)(2)(A)), provides the general public and Federal agencies with an opportunity to comment on proposed, revised, and continuing collections of information. This helps the Department assess the impact of its information collection requirements and minimize the public's reporting burden. It also helps the public understand the Department's information collection requirements and provide the requested data in the desired format. ED is soliciting comments on the proposed ICR that is described below. The Department is especially interested in public comments addressing the following issues: (1) is this collection necessary to the proper functions of the Department; (2) will this information be processed and used in a timely manner; (3) is the estimate of burden accurate; (4) how might the Department enhance the quality, utility, and clarity of the information to be collected; and (5) how might the Department minimize the burden of this collection on the respondents, including through the use of information technology. Please note that written comments received in response to this notice will be considered public record.

Title of Collection: National Teacher and Principal Survey of 2023-2024 (NTPS 2023-24) Preliminary Field Activities.

OMB Control Number: 1850-0598.

Type of Review: A revision of a currently approved collection.

Respondents/Affected Public: Individuals and households.

Total Estimated Number of Annual Responses: 18,476.

Total Estimated Number of Annual Burden Hours: 3,419.

Abstract: The National Teacher and Principal Survey (NTPS), conducted every two or three years by the National Center for Education Statistics (NCES), is a system of related questionnaires that provides descriptive data on the context of elementary and secondary education. Redesigned from the Schools and Staffing Survey (SASS) with a focus on flexibility, timeliness, and integration with other ED data, the NTPS system allows for school, principal, and teacher characteristics to be analyzed in relation to one another. NTPS is an in-depth, nationally representative survey of first through twelfth grade public and private school teachers, principals, and schools. Kindergarten teachers in schools with at least a first grade are also surveyed. NTPS utilizes core content and a series of rotating modules to allow timely collection of important education trends as well as trend analysis. Topics covered include characteristics of teachers, principals, schools, teacher training opportunities, retention, retirement, hiring, and shortages. NTPS also functions as the base-year for the longitudinal studies Teacher Follow-up Survey (TFS) and Principal Follow-up Survey (PFS).

This request is to conduct the NTPS 2023-24 preliminary activities, namely special district recruitment, recruitment of endorsers, and Screener Survey for the NTPS and the NTPS follow-up surveys. The NTPS 2023-24 Main Study final procedures and materials will be published for public comment and OMB review in winter 2022-23, and OMB approval for the follow-up surveys to NTPS 2023-24—the Teacher Follow-up Survey (TFS) and the Principal Follow-up Survey (PFS) will be requested in an additional package in winter 2023-24.

Dated: October 18, 2022.
Juliana Pearson,
PRA Coordinator, Strategic Collections and Clearance, Governance and Strategy Division, Office of Chief Data Officer, Office of Planning, Evaluation and Policy Development.

[FR Doc. 2022-22948 Filed 10-20-22; 8:45 am]

BILLING CODE 4000-01-P